DEPARTMENT OF JUSTICE

[OMB Number 1105-NEW]

Agency Information Collection Activities; Proposed Collection; Comments Requested: Claims of U.S. Nationals for Compensation for Serious Personal Injuries Against the Government of Iraq and Referred to the Foreign Claims Settlement Commission by the Department of State Legal Adviser

ACTION: 30-day notice.

The Foreign Claims Settlement Commission (Commission), an independent agency organized within the Department of Justice, will be submitting the following information collection request to the Office of Management and Budget (OMB) for review and approval in accordance with the Paperwork Reduction Act of 1995. The proposed information collection is published to obtain comments from the public and affected agencies. This proposed information collection was previously published in the Federal Register Volume 77, Number 236, pages 73051-73052 on December 7, 2012, allowing for a 60 day comment period.

The purpose of this notice is to allow for an additional 30 days for public comment March 11, 2013. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: New collection.

(2) The title of the form/collection: Claims of U.S. Nationals Against Iraq.

(3) The agency form number, if any, and the applicable component of the department sponsoring the collection: Form Number: FCSC 1-12. Foreign Claims Settlement Commission, Department of Justice.

(4) Effected public who will be asked or required to respond, as well as a brief abstract: Primary: Individuals. Other: None. Information will be used as a basis to adjudicate eligibility for compensation of U.S. nationals, under the U.S.-Iraq Claims Settlement Agreement and the November 14, 2012 referral to the Commission by the Department of State Legal Adviser, for serious personal injuries, which may include instances of serious physical, mental, or emotional injury arising from sexual assault, coercive interrogation, mock execution, or aggravated physical assault. Awards will be payable by the Department of the Treasury out of funds provided.

(5) An estimate of the total number of respondents and the amount of time estimated for an average respondent to respond/reply: It is estimated that 20 individual respondents will complete the application in approximately two hours each.

(6) An estimate of the total public burden (in hours) associated with the collection: The estimated total annual public burden associated with this application is 40 hours.

If additional information is required contact: Jerri Murray, Department Clearance Officer, United States Department of Justice, Justice Management Division, Policy and Planning Staff, Two Constitution Square, 145 N Street NE., Room 3W-1407B, Washington, DC 20530.

Dated: February 5, 2013.
Jerri Murray,
Department Clearance Officer for PRA, U.S. Department of Justice.

[FR Doc. 2013-02874 Filed 2-7-13; 8:45 am]

BILLING CODE 4410-BA-P